DEPARTMENT OF VETERANS AFFAIRS

38 CFR Part 17

RIN 2900-AM81

Elimination of Co-Payment for Weight Management Counseling

AGENCY: Department of Veterans Affairs.

ACTION: Withdrawal of proposed rule.

SUMMARY: The Department of Veterans Affairs (VA) is withdrawing VA's proposal published in the Federal Register at 73 FR 20579 on April 16, 2008, to amend our medical regulations to designate weight management counseling (individual and group sessions) as a service that is not subject to VA's co-payment requirements. VA received no significant adverse comments concerning the proposed rule or its companion substantially identical direct final rule published on the same date. In a companion document in this issue of the Federal Register, we are confirming that the direct final rule became effective on June 16, 2008. Accordingly, this document withdraws as unnecessary the proposed rule.

FOR FURTHER INFORMATION CONTACT: Tony Guagliardo, Director, Business Policy, Chief Business Office (16), Veterans Health Administration, 810 Vermont Avenue, NW., Washington, DC 20420, (202) 461-1591 (this is not a toll-free number).

Approved: October 27, 2008.
Gordon H. Mansfield,
Deputy Secretary of Veterans Affairs.

[FR Doc. E8-26174 Filed 10-31-08; 8:45 am]

BILLING CODE 8320-01-P